DEPARTMENT OF THE INTERIOR

Geological Survey

Agency Information Collection Activities: Comment Request

AGENCY: U.S. Geological Survey (USGS), Interior.

ACTION: Notice of a new information collection.

SUMMARY: To comply with the Paperwork Reduction Act of 1995 (PRA), we are notifying the public that we will submit to OMB a new information collection request (ICR) for approval of the paperwork requirements for the Mineral Resources Program's (MRP) Mineral Resource External Research Program (MRERP). To submit a proposal for the MRERP a project narrative must be completed and submitted via Grants.gov. Furthermore, for multi-year projects, an annual progress report must be completed, and for all projects, a final technical report is required at the end of the project period. This notice provides the public an opportunity to comment on the paperwork burden of these project narrative and report requirements. The narrative and report guidance is available at http://www.usgs.gov/contracts/Minerals/index.html.

DATES: Submit written comments by August 5, 2008.

ADDRESSES: You may submit comments on this information collection to the Department of the Interior, USGS, via:

• E-mail pponds@usgs.gov. Use Information Collection Number 1028-NEW, MRP in the subject line.

• FAX: (970) 226-9230. Use Information Collection Number 1028-NEW, MRP in the subject line.

• Mail to Phadrea Ponds, U.S. Geological Survey, 2150 Building C, Fort Collins, CO 80525. Please reference Information Collection 1028-NEW, MRP in your comments.

FOR FURTHER INFORMATION PLEASE CONTACT: Jeff L. Doebrich at 703-648-6103.

SUPPLEMENTARY INFORMATION: Title: Mineral Resources Program.

OMB Control Number: 1028-NEW.

Form Number: Project narrative and report guidance posted on Grants.gov.

Abstract: Through the MRERP, the MRP of the USGS offers an annual competitive grant and/or cooperative agreement opportunity to universities, State agencies, Tribal governments or organizations, and industry or other private sector organizations. Applicants must have the ability to conduct research in topics related to non-fuel mineral resources and that meet the goals of the MRP. The MRERP will consider all research-based proposals that address one of the MRP's long-term goals. The long-term goals of the MRP, as described in the MRP Five-Year Plan for FY 2006-2010 (http://minerals.usgs.gov/plan/2006-2010/2006-2010_plan.html) are (1) Ensure availability of up-to-date quantitative assessments of potential for undiscovered mineral deposits, (2) ensure availability of up-to-date geoenvironmental assessments of priority Federal lands, (3) ensure availability of reliable geologic, geochemical, geophysical, and mineral locality data for the United States, and (4) ensure availability of long-term data sets describing mineral production and consumption. Furthermore, annual research priorities are provided as guidance for applicants to consider when submitting proposals. Annual research priorities are determined by USGS MRP management. Since its initiation in 2004, the MRERP has awarded more than $1.8 million to 30 different research projects across the country.

We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We intend to release the project abstracts and primary investigators for awarded/funded projects only.

Frequency: Annually.

Estimated Annual Number and Description of Respondents: Approximately 500 research scientists from universities, State agencies, Tribal governments or organizations, and industry or other private sector organizations.

Estimated Total Number of Annual Responses: 48.

Estimated Annual Burden Hours: 2160.

Estimated Annual Reporting and Recordkeeping “Hour” Burden: We estimate the public reporting burden averages 45 hours per response. This includes the time for (1) Project conception and development, proposal writing and reviewing, and submitting project narrative through Grants.gov, (2) preparation of annual progress report, and (3) preparation of final technical report.

Estimated Reporting and Recordkeeping “Non-Hour Cost” Burden: There are no “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: Before submitting an ICR to OMB, PRA section 3506(c)(2)(A) (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we publish this Federal Register notice announcing that we will submit this ICR to OMB for approval. This notice provides the required 60-day public comment period.

USGS Information Collection Clearance Officer: Alfred Travnicek, 703-648-7231.

Dated: May 30, 2008.
Suzette M. Kimball,
Associate Director for Geology.

[FR Doc. E8-12721 Filed 6-5-08; 8:45 am]

BILLING CODE 4311-AM-P